DEPARTMENT OF LABOR

Employment and Training Administration

[TA-W-50,299]

CSI Employment Services, Mt. Pleasant, IA; Notice of Termination of Investigation

Pursuant to Section 221 of the Trade Act of 1974, an investigation was initiated on December 12, 2002, in response to a worker petition filed by a company official on behalf of workers at CSI Employment Services, Mt. Pleasant, Iowa.

The petitioner has requested that the petition be withdrawn. Consequently, further investigation in this case would serve no purpose, and the investigation has been terminated.

Signed in Washington, DC this 17th day of December, 2002.
Richard Church,
Certifying Officer, Division of Trade Adjustment Assistance.

[FR Doc. 03-405 Filed 1-8-03; 8:45 am]

BILLING CODE 4510-30-P